COUNCIL OF THE INSPECTORS GENERAL ON INTEGRITY AND EFFICIENCY

Senior Executive Service Performance Review Board Membership

AGENCY: Council of the Inspectors General on Integrity and Efficiency.

ACTION: Notice.

SUMMARY: This notice sets forth the names and titles of the current membership of the Council of the Inspectors General on Integrity and Efficiency (CIGIE) Performance Review Board as of October 1, 2014.

DATES: Effective Date: October 1, 2014.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008, established the Council of the Inspectors General on Integrity and Efficiency (CIGIE) to address integrity, economy, and effectiveness issues that transcend individual Government agencies; and increase the professionalism and effectiveness of personnel by developing policies, standards, and approaches to aid in the establishment of a well-trained and highly skilled workforce in the Offices of inspectors General. The CIGIE is an interagency council whose executive chair is the Deputy Director for Management, Office of Management and Budget, and is comprised principally of the 72 Inspectors General (IGs).

II. CIGIE Performance Review Board

Under 5 U.S. C. 4314(c)(l)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October I, 2014, are as follows:

Agency for International Development

Phone Number: (202) 712-1150

CIGIE Liaison—Marcelle Davis (202) 712-1150

Michael G. Carroll—Acting Inspector General.

Lisa Risley—Assistant Inspector General for Investigations.

Melinda Dempsey—Deputy Assistant Inspector General for Audit.

Lisa McClennon—Deputy Assistant Inspector General for Investigations.

Alvin A. Brown—Deputy Assistant Inspector General for Audit.

Lisa Goldfluss—Legal Counsel to the Inspector General.

Robert Ross—Assistant Inspector General for Management.

Department of Agriculture

Phone Number: (202) 720-8001

CIGIE Liaison—Dina J. Barbour (202) 720-8001

David R. Gray—Deputy Inspector General.

Christy A. Slamowitz—Counsel to the Inspector General.

Gilroy Harden—Assistant Inspector General for Audit.

Rodney G. DeSmet—Deputy Assistant Inspector General for Audit.

Steven H. Rickrode, Jr.—Deputy Assistant Inspector General for Audit.

Karen L. Ellis—Assistant Inspector General for Investigations.

Ann M. Coffey—Deputy Assistant Inspector General for Investigations.

Lane M. Timm—Assistant Inspector General for Management.

Department of Commerce

Phone Number: (202) 482-4661

CIGIE Liaison—Clark Reid (202) 482-4661

Morgan Kim—Deputy Inspector General and Assistant Inspector General for Investigations.

Andrew Katsaros—Principle Assistant Inspector General for Audit and Evaluation—Acting.

Ann Eilers—Assistant Inspector General for Administration—Acting.

Department of Defense

Phone Number: (703) 604-8324

CIGIE Liaison—David Gross (703) 604-8324

Daniel R. Blair—Deputy Inspector General for Auditing.

James B. Burch—Deputy Inspector General for Investigations.

Carol N. Gorman—Assistant Inspector General for Readiness and Cyber Operations.

Carolyn R. Davis—Assistant Inspector General for Audit Policy and Oversight.

Amy J. Frontz—Principal Assistant Inspector General for Auditing.

Marguerite C. Garrison—Deputy Inspector General for Administrative Investigations.

Lynne M. Halbrooks—Principal Deputy Inspector General.

James R. Ives—Assistant Inspector General for Investigations, Investigative Operations.

Kenneth P. Moorefield—Deputy Inspector General for Special Plans and Operations.

Henry C. Shelley Jr.—General Counsel.

Randolph R. Stone—Deputy Inspector General for Policy and Oversight.

Anthony C. Thomas—Deputy Inspector General for Intelligence and Special Program Assessments.

Ross W. Weiland—Assistant Inspector General for Investigations, Internal Operations.

Jacqueline L. Wicecarver—Assistant Inspector General for Acquisition, Parts, and Inventory.

Department of Education

Phone Number: (202)245-6900

CIGIE Liaison—Janet Harmon (202) 245-6076

Wanda Scott—Assistant Inspector General for Management Services.

Patrick Howard—Assistant Inspector General for Audit.

Bryon Gordon—Deputy Assistant Inspector General for Audit.

Charles Coe—Assistant Inspector General for Information Technology Audits and Computer Crime Investigations.

Marta Erceg—Counsel to the Inspector General.

Department of Energy

Phone Number: (202) 586-4393

CIGIE Liaison—Juston Fontaine (202) 586-1959

John Hartman—Deputy Inspector General for Investigations.

Rickey Hass—Deputy Inspector General for Audits and Inspections.

George Collard—Assistant Inspector General for Audits.

Daniel Weeber—Assistant Inspector General for Audits and Administration.

Sandra Bruce—Assistant Inspector General for Inspections.

Michael Milner—Assistant Inspector General for Investigations.

Tara Porter—Assistant Inspector General for Management and Administration.

Virginia Grebasch—Counsel to the Inspector General.

Environmental Protection Agency

Phone Number: (202) 566-0847

CIGIE Liaison—Jennifer Kaplan (202) 566-0918

Charles Sheehan—Deputy Inspector General.

Aracely Nunez-Mattocks—Chief of Staff to the Inspector General.

Patrick Sullivan—Assistant Inspector General for Investigations.

Patricia Hill—Assistant Inspector General for Mission Systems.

Carolyn Copper—Assistant Inspector General for Program Evaluation.

Alan Larsen—Counsel to the Inspector General and Assistant Inspector General for Congressional and Public Affairs.

Federal Maritime Commission

Phone Number: (202) 523-5863

CIGIE Liaison—Jon Hatfield (202) 523-5863

Jon Hatfield—Inspector General.

General Services Administration

Phone Number: (202) 501-0450

CIGIE Liaison—Sarah S. Breen (202) 219-1351

Robert C. Erickson—Deputy Inspector General.

Richard P. Levi—Counsel to the Inspector General.

Theodore R. Stehney—Assistant Inspector General for Auditing.

Nick Goco, Deputy Assistant Inspector General for Real Property Audits.

James P. Hayes, Deputy Assistant Inspector General for Acquisition Programs Audits.

Geoffrey Cherrington—Assistant Inspector General for Investigations.

Lee Quintyne—Deputy Assistant Inspector General for Investigations.

Stephanie E. Burgoyne—Assistant Inspector General for Administration.

Larry L. Gregg—Associate Inspector General.

Department of Health and Human Services

Phone Number: (202) 619-3148

CIGIE Liaison—Elise Stein (202) 619-2686

Joanne Chiedi—Principal Deputy Inspector General.

Paul Johnson Deputy Inspector General for Management and Policy.

Robert Owens, Jr.—Assistant Inspector General for Information Technology (Chief Information Officer).

Gary Cantrell—Deputy Inspector General for Investigations.

Tyler Smith—Assistant Inspector General for Investigations.

Les Mollie—Assistant Inspector General for Investigations.

Suzanne Martin—Deputy Inspector General for Evaluation and Inspections.

Greg Demske—Chief Counsel to the Inspector General.

Robert DeConti—Assistant Inspector General for Legal Affairs.

Gloria Jarmon—Deputy Inspector General for Audit Services.

Kay Daly—Assistant Inspector General for Audit Services.

Brian Ritchie—Assistant Inspector General for Audit Services.

Thomas Salmon—Assistant Inspector General for Audit Services.

Department of Homeland Security

Phone Number: (202) 254-4100

CIGIE Liaison—Erica Paulson (202) 254-0938

John Roth—Inspector General.

Russell Barbee—Assistant Inspector General for Management.

John Dupuy—Assistant Inspector General for Investigations.

D. Michael Beard—Assistant Inspector General for Integrity and Quality Oversight.

John Kelly—Assistant Inspector General for Emergency Management Oversight.

Anne L. Richards—Assistant Inspector General for Audits.

Wayne II. Salzgaber—Assistant Inspector General for Inspections.

Mark Bell—Deputy Assistant Inspector General for Audits.

John E. McCoy II—Deputy Assistant Inspector General for Audits.

Louise M. McGlathery—Deputy Assistant Inspector General for Management.

James P. Gaughran—Deputy Assistant Inspector General for Emergency Management Oversight.

Department of Housing and Urban Development

Phone Number: (202) 708-0430

CIGIE Liaison—Holley Miller (202) 402-2741

Joe Clarke—Assistant Inspector General for Investigations.

Lester Davis—Deputy Assistant Inspector General for Investigations.

Randy McGinnis—Assistant Inspector General for Audit.

Frank Rokosz—Deputy Assistant Inspector General for Audit.

John Buck—Deputy Assistant Inspector General for Audit.

Eddie Saffarinia—Assistant Inspector General for Management and Technology.

Department of the Interior

Phone Number: (202) 208-5745

CIGIE Liaison—Joann Gauzza (202) 208-5745

Mary L. Kendall—Deputy Inspector General.

Stephen Hardgrove—Chief of Staff.

Bernie Mazer—Senior Advisor.

Dave Brown—Associate Inspector General for Communication.

Kimberly Elmore Assistant Inspector General for Audits, Inspections and Evaluations.

Robert Knox—Assistant Inspector General for Investigations.

Bruce Delaplaine—General Counsel.

Roderick Anderson—Assistant Inspector General for Management.

Department of Justice

Phone Number: (202) 514-3435

CICIE Liaison—Jay Lerner (202) 514-3435

Cynthia Schnedar—Deputy Inspector General.

William M. Blier—General Counsel.

Raymond J. Beaudet—Assistant Inspector General for Audit.

Carol F. Ochoa—Assistant Inspector General for Oversight and Review.

Gregory T. Peters—Assistant Inspector General for Management and Planning.

George L. Dorsett—Assistant Inspector General for Investigations.

Nina Pelletier—Assistant Inspector General for Evaluation and Inspections.

Eric Johnson—Deputy Assistant Inspector General for Investigations.

Department of Labor

Phone Number: (202) 693-5100

CIGIE Liaison—Luiz Santos (202) 693-7062

Howard Shapiro—Counsel to the Inspector General.

Elliot P. Lewis—Assistant Inspector General for Audit.

Debra D. Pettitt—Deputy Assistant Inspector General for Audit.

Lester Fernandez—Assistant Inspector General for Labor Racketeering and Fraud Investigations.

Richard S. Clark II—Deputy Assistant Inspector General for Labor Racketeering and Fraud Investigations.

National Aeronautics and Space Administration

Phone Number: (202) 358-1220

CIGIE Liaison—Renee Juhans (202) 358-1712

Gail Robinson—Deputy Inspector General.

Frank LaRocca—Counsel to the Inspector General.

Kevin Winters—Assistant Inspector General for Investigations.

James Morrison—Assistant Inspector General for Audits.

Hugh Hurwitz—Assistant Inspector General for Management and Planning.

National Endowment for the Arts

Phone Number: (202) 682-5774

CIGIE Liaison—Tonie Jones (202) 682-5402

Tonie Jones—Inspector General.

National Science Foundation

Phone Number: (703) 292-7100

CIGIE Liaison—Susan Carnohan (703) 292-5011 and Maury Pully (703) 292-5059

Brett M. Baker—Assistant Inspector General for Audit.

Alan Boehm—Assistant Inspector General for Investigations.

Kenneth Chason—Counsel to the Inspector General.

Nuclear Regulatory Commission

Phone Number: (301) 415-5930

CIGIE Liaison—Deborah S. Huber (301) 415-5930

David C. Lee—Deputy Inspector General.

Stephen D. Dingbaum—Assistant Inspector General for Audits.

Joseph A. McMillan—Assistant Inspector General for Investigations.

Office of Personnel Management

Phone Number: (202) 606-1200

CIGIE Liaison—Joyce D. Price (202) 606-2156

Norbert E. Vint—Deputy Inspector General.

Terri Fazio—Assistant Inspector General for Management.

Michael R. Esser—Assistant Inspector General for Audits.

Michelle B. Schmitz—Assistant Inspector General for Investigations.

Kimberly A. Howell—Deputy Assistant Inspector General for Investigations.

Melissa D. Brown—Deputy Assistant Inspector General for Audits.

Lewis F. Parker—Deputy Assistant Inspector General for Audits.

Jeffrey E. Cole—Senior Advisor to the Assistant Inspector General for Audits.

Peace Corps

Phone Number: (202) 692-2900

CIGIE Liaison—Joaquin Ferrao (202) 692-2921

Kathy Buller—Inspector General (Foreign Service).

United States Postal Service

Phone Number: (703) 248-2100

CIG1E Liaison—Agapi Doulaveris (703) 248-2286

Elizabeth Martin—General Counsel.

Gladis Griffith—Deputy General Counsel.

Mark Duda—Assistant Inspector General for Audits.

Larry Koskinen—Chief Technology Officer.

Thomas Frost—Deputy Assistant Inspector General for Investigations.

Railroad Retirement Board

Phone Number: (312) 751-4690

CIGIE Liaison—Jill Roellig (312) 751-4993

Patricia A. Marshall—Counsel to the Inspector General.

Louis Rossignuolo—Assistant Inspector General for Investigations.

Small Business Administration

Phone Number: (202) 205-6586

CIGIE Liaison—Robert F. Fisher (202) 205-6583 and Sheldon R. Shoemaker (202) 205-0080

Robert A. Westbrooks—Deputy Inspector General.

Glenn P. Harris—Counsel to the Inspector General.

Daniel J. O'Rourke—Assistant Inspector General for Investigations.

Robert F. Fisher—Assistant Inspector General for Management and Policy.

Social Security Administration

Phone Number: (410) 966-4385

CIGIE Liaison—Kristin Klima (202) 358-6319

Rona Lawson—Deputy Assistant Inspector General for Audit.

B. Chad Bungard—Counsel to the Inspector General.

Michael Robinson—Assistant Inspector General for Investigations.

Kelly Bloyer—Assistant Inspector General for Technology and Resource Management.

Special Inspector General for Troubled Asset Relief Program

Phone Number: (202) 622-1419

CIGIE Liaison—(202) 622-2658

Peggy Ellen—Deputy Special Inspector General.

Scott Rebein—Deputy Special Inspector General, Investigations.

Roderick Fillinger—General Counsel.

Cathy Alix—Deputy Special Inspector General, Operations.

Bruce Gimbel—Deputy Special Inspector General, Audit and Evaluations.

Department of State and the Broadcasting Board of Governors

Phone Number: (703) 284-2619

CIGIE Liaison—Cynthia Saboe (202) 663-0378

Emilia DiSanto—Deputy Inspector General.

Erich O. Hart—General Counsel.

Norman P. Brown—Assistant Inspector General for Audits.

Karen J. Ouzts—Assistant Inspector General for Management.

Robert B. Peterson—Assistant Inspector General for Inspections.

Department of Transportation

Phone Number: (202) 366-1959

CIGIE Liaison—Nathan P. Richmond: (202) 493-0422

Calvin L. Scovel III—Inspector General.

Ann M. Calvaresi Barr—Deputy Inspector General.

Brian A. Dettelbach—Assistant Inspector General for Legal, Legislative, and External Affairs.

Timothy M. Barry—Principal Assistant Inspector General for Investigations.

William Owens—Deputy Assistant Inspector General for Investigations.

Lou E. Dixon—Principal Assistant Inspector General for Auditing and Evaluation.

Joseph W. Comé—Deputy Principal Assistant Inspector General for Auditing and Evaluation.

Matthew E. Hampton—Assistant Inspector for Aviation Audits.

Louis King—Assistant Inspector General for Information Technology and Financial Management Audits.

Mitchell L. Behm—Assistant Inspector General for Surface Transportation Audits.

Thomas Yatsco—Assistant Inspector General for Surface Transportation Audits.

Mary Kay Langan-Feirson—Assistant Inspector General for Acquisition and Procurement Audits.

Department of the Treasury

Phone Number: (202) 622-1090

CIGIE Liaison—Susan G. Marshall (202) 927-9842

Richard K. Delmar—Counsel to the Inspector General.

Tricia L. Hollis—Assistant Inspector General for Management.

Marla A. Freedman—Assistant Inspector General for Audit.

Robert A. Taylor—Deputy Assistant Inspector General for Audit (Program Audits).

John L. Phillips—Assistant Inspector General for Investigations.

Donna F. Joseph—Assistant Inspector General for Financial Management, Information Technology, and Financial Assistance Audit.

Treasury Inspector General for Tax Administration/Department of the Treasury

Phone Number: (202) 622-6500

CIGIE Liaison—Michael Raschiatore (202) 927-0172

Michael A Phillips—Acting Principal Deputy Inspector General.

Timothy Camus—Deputy Inspector General for Investigations.

David Holmgren—Deputy Inspector General for Inspections and Evaluations.

Michael McKenney—Deputy Inspector General for Audit.

Michael Delgado—Assistant Inspector General for Investigations.

Greg Kutz—Assistant Inspector General for Audit (Management Services & Exempt Organizations).

James Jackson—Deputy Assistant Inspector General for Investigations.

Randy Silvis—Deputy Assistant Inspector General for Investigations.

Gladys Hernandez—Chief Counsel.

George Jakabcin—Chief Information Officer.

Department of Veterans Affairs

Phone Number: (202) 461-4720

CIGIE Liaison—Joanne Moffett (202) 461-4720

Maureen T. Regan—Counselor to the Inspector General.

James O'Neill—Assistant Inspector General for Investigations.

Quentin G. Aucoin—Deputy Assistant Inspector General for Investigations (Field Operations).

Linda A. Halliday—Assistant Inspector General for Audits and Evaluations.

Sondra F. McCauley—Deputy Assistant Inspector General for Audits and Evaluations (FIQs Management and Inspections).

Gary K. Abe—Deputy Assistant Inspector General for Audits and Evaluations (Field Operations).

Dana Moore—Assistant Inspector General for Management and Administration.

Jason R. Woodward—Deputy Assistant Inspector General for Management and Administration.

John D. Daigh—Assistant Inspector General for Healthcare Inspections.

Dated: August 22, 2014.
Mark D. Jones,
Executive Director.

[FR Doc. 2014-20597 Filed 9-3-14; 8:45 am]

BILLING CODE P